DEPARTMENT OF TRANSPORTATION

Pipeline and Hazardous Materials Safety Administration

[Docket No. PHMSA-2012-0082 (Notice No. 15-16)]

Hazardous Materials: Information Collection Activities

AGENCY: Pipeline and Hazardous Materials Safety Administration (PHMSA), Department of Transportation (DOT).

ACTION: Notice and request for comments.

SUMMARY: In accordance with the Paperwork Reduction Act of 1995, PHMSA invites comments on its intention to revise an information collection under Office of Management and Budget (OMB) Control Number 2137-0628, “Flammable Hazardous Materials by Rail Transportation.” This reporting requirement would require tank car owners to report their progress in the retrofitting of tank cars to the Department of Transportation (DOT).

DATES: Interested persons are invited to submit comments on, or before November 13, 2015.

ADDRESSES: Send comments regarding the burden estimate, including suggestions for reducing the burden, by mail to the Office of Information and Regulatory Affairs, Office of Management and Budget, Attention: Desk Officer for DOT-PHMSA, 725 17th Street NW., Washington, DC 20503, by fax, 202-395-5806, or by email, to OIRA_Submission@omb.eop.gov. Comments should refer to the information collection by title and/or OMB Control Number.

We invite comments on: (1) Whether the proposed collection of information is necessary for the proper performance of the functions of the Department, including whether the information will have practical utility; (2) the accuracy of the Department's estimate of the burden of the proposed information collection; (3) ways to enhance the quality, utility, and clarity of the information to be collected; and (4) ways to minimize the burden of the collection of information on respondents, including the use of automated collection techniques or other forms of information technology.

Docket: For access to the dockets to read background documents or comments received, go to http://www.regulations.gov.

FOR FURTHER INFORMATION CONTACT: Steven Andrews or T. Glenn Foster, Standards and Rulemaking Division (PHH-12), Pipeline and Hazardous Materials Safety Administration, 1200 New Jersey Avenue SE., East Building, 2nd Floor, Washington, DC 20590-0001, Telephone (202) 366-8553.

SUPPLEMENTARY INFORMATION: Section 1320.8 (d), Title 5, Code of Federal Regulations requires PHMSA to provide interested members of the public and affected agencies an opportunity to comment on information collection and recordkeeping requests. This notice identifies an information collection request that PHMSA will be submitting to OMB for revision. This information collection request is contained in 49 CFR part 174 of the Hazardous Materials Regulations (HMR; 49 CFR parts 171-180). PHMSA has revised the burden estimate, where appropriate, to reflect current reporting levels or adjustments based on changes described in this notice. The following information is provided for the information collection: (1) Title of the information collection, including former title if a change is being made; (2) OMB control number; (3) summary of the information collection activity; (4) description of affected public; (5) estimate of total annual reporting and recordkeeping burden; and (6) frequency of collection. PHMSA will request a three-year term of approval for the information collection activity and, when approved by OMB, publish a notice of the approval in the Federal Register.

PHMSA requests comments on the following information collection:

Title: Flammable Hazardous Materials by Rail Transportation.

OMB Control Number: 2137-0628.

Summary: This information collection pertains to requirements for the creation of a sampling and testing program for unrefined petroleum-based products and rail routing for High Hazard Flammable Trains (HHFTs) ᵃ, routing requirements for rail operators, and the reporting of incidents that may occur from HFFTs.

ᵃ An HHFT means a single train transporting 20 or more loaded tank cars of a Class 3 flammable liquid in a continuous block or a single train carrying 35 or more loaded tank cars of a Class 3 flammable liquid throughout the train consist.

In the final rule entitled “Enhanced Tank Car Standards and Operational Controls for High-Hazard Flammable Trains” PHMSA and the Federal Railroad Administration (FRA) adopted a risk-based timeline for the retrofit of existing tank cars to meet an enhanced Casualty Prevention Circular (CPC-1232) standard when used as part of an HHFT. The retrofit timeline focuses on two risk factors, the packing group and differing types of DOT-111 and CPC-1232 tank cars. The timeline provides an accelerated risk reduction that more appropriately addresses the overall risk. The timeline is provided in the §§ 173.241, 173.242, and 173.243 tables of the final rulemaking [80 FR 26643] and includes a January 1, 2017 deadline for of non-jacketed DOT-111 tank cars in PG I service in an HHFT. Not adhering to the January 1, 2017 deadline would trigger a reporting requirement.

This reporting requirement would require owners of non-jacketed DOT-111 tank cars in Packing Group I service in an HHFT to report to DOT the following information regarding the retrofitting progress:

• The total number of tank cars retrofitted to meet the DOT-117R specification;

• The total number of tank cars built or retrofitted to meet the DOT-117P specification;

• The total number of DOT-111 tank cars (including those built to CPC-1232 industry standard) that have not been modified;

• The total number of tank cars built to meet the DOT-117 specification; and

• The total number of tank cars built or retrofitted to a DOT-117, 117R, or 117P specification that are Electronically Controlled Pneumatic (ECP) brake ready or ECP brake equipped.

Although this reporting requirement applies to individual owners of non-jacketed DOT-111 tank cars in PG I service in an HHFT, DOT would accept a consolidated report from a group representing the affected industries. Furthermore, while not adhering to the January 1, 2017 retrofit deadline triggers an initial reporting requirement, it would also trigger a requirement which would authorize the Secretary of Transportation to request additional reports of the above information with reasonable notice.

PHMSA received comments on the 60-Day Notice (80 FR 27844) for the revision to this collection from the American Fuel & Petrochemical Manufacturers (AFPM) and the Oklahoma Department of Transportation (DOT) both in support of the tank car retrofit reporting requirements. AFPM states that expanding the final rule's reporting requirement would improve the understanding of how the retrofit activity is affecting rail transportation of flammable liquids and allow PHMSA to make data-driven decisions in advance of the compliance milestones in the retrofit schedule. The Oklahoma DOT states that it does not object to the tank car retrofitting reporting requirements but encourages PHMSA to reemphasize the importance of evaluating the causes of oil by rail accidents so as to prevent them in the future.

We estimate that this reporting requirement will result in a revised information collection and recordkeeping burden as follows:

OMB No. 2137-0628, “Flammable Hazardous Materials by Rail Transportation.”

Additional Burden request:

Additional Number of Respondents: 50.

Additional Annual Responses: 50.

Additional Annual Burden Hours: 25.

Additional Total Annual Burden Cost: $1,000.

Revised Total First Year Burden:

Revised Total Annual Number of Respondents: 2,039.

Revised Total Annual Responses: 2,609.

Revised Total Annual Burden Hours: 103,814.

Revised Total Annual Burden Cost: $7,384,633.55.

Revised Subsequent Year Burden:

Revised Total Annual Number of Respondents: 2,039.

Revised Total Annual Responses: 2,609.

Revised Total Annual Burden Hours: 29,054.

Revised Total Annual Burden Cost: $2,038,988.

Signed in Washington, DC, on October 7, 2015.
William S. Schoonover,
Deputy Associate Administrator, Pipeline and Hazardous Materials Safety Administration.

[FR Doc. 2015-26025 Filed 10-13-15; 8:45 am]

BILLING CODE 4910-60-P